DEPARTMENT OF HOMELAND SECURITY

Transportation Security Administration

Intent To Request Revision From OMB of One Current Public Collection of Information: Aircraft Operator Security, 49 CFR Part 1544

AGENCY: Transportation Security Administration, DHS.

ACTION: 60-Day notice.

SUMMARY: The Transportation Security Administration (TSA) invites public comment on one currently approved Information Collection Request (ICR), Office of Management and Budget (OMB) control number 1652-0003, abstracted below that we will submit to OMB for a revision in compliance with the Paperwork Reduction Act (PRA). The ICR describes the nature of the information collection and its expected burden. Aircraft operators must provide certain information to TSA and adopt and implement a TSA-approved security program. These programs require aircraft operators to maintain and update records to ensure compliance with security provisions set forth in 49 CFR part 1544.

DATES: Send your comments by February 11, 2019.

ADDRESSES: Comments may be emailed to TSAPRA@tsa.dhs.gov or delivered to the TSA PRA Officer, Information Technology (IT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

OMB Control Number 1652-0003; Aircraft Operator Security, 49 CFR part 1544. The information collected is used to determine compliance with 49 CFR part 1544 and to ensure passenger safety by monitoring aircraft operator security procedures. TSA implements aircraft operator security standards at part 1544 to require each aircraft operator, to which this part applies, to adopt and carry out a security program. This TSA-approved security program establishes procedures that aircraft operators must carry out to protect persons and property traveling on flights provided by the aircraft operator against acts of criminal violence, aircraft piracy, and the introduction of explosives, incendiaries, or weapons aboard an aircraft. Aircraft operators must also comply with TSA-issued Security Directives (SDs), which are issued when TSA determines that additional security measures are necessary to respond to a threat assessment or to a specific threat against civil aviation.

This information collection is mandatory for aircraft operators. As part of their security programs, affected aircraft operators are required to maintain and update, as necessary, records of compliance with the security program provisions set forth in part 1544, including maintaining records of compliance for selected crew and security employees. Part 1544 also requires affected aircraft operators to submit security program amendments and SD compliance plans to TSA, when applicable, and to make their security programs and associated records available for inspection and copying by TSA to ensure transportation security and regulatory compliance.

In addition, part 1544 requires the affected aircraft operators to submit information on aircraft operators' flight crews and other employees, passengers, and cargo. The information collection includes information regarding security program, amendments, fingerprint-based criminal history records check (CHRC) applications; recordkeeping requirements for security program, CHRCs, and training; watchlist matching for employees and reporting matches to TSA; watchlist matching for passengers in case of Secure Flight outages; and incident and suspicious activity reporting. Aircraft operators may provide the information electronically or manually.

Aircraft operators must ensure that certain flight crew members and employees (including certain contract employees and authorized representatives) submit to and receive a CHRC. These requirements apply to flight crew members and employees with unescorted access authority to a Security Identification Display Area (SIDA) or who perform screening, checked baggage, or cargo functions. As part of the CHRC process, the individual must provide identifying information, including fingerprints. Additionally, aircraft operators must maintain these records and make them available to TSA for inspection and copying upon request.

TSA is revising the information collection and will no longer collect information regarding watchlist matching for Secure Flight outages. TSA has assumed from the private sector the responsibility for pre-flight screening of passengers and certain non-traveling individuals against the Federal Government watchlist, as required by sec. 4012(a) of the Intelligence Reform and Terrorism Prevention Act of 2004,¹ and consolidation of the aviation passenger watchlist matching function within one agency of the Federal Government. TSA no longer requires airlines to compare passenger names to watchlists during a Secure Flight outage. TSA estimates that there will be approximately 673 respondents to the information requirements described above, with a total annual burden estimate of approximately 569,686 hours.

¹ Public Law 108-458, 118 Stat. 3638, 3714; Dec. 17, 2004.

Dated: December 6, 2018.
Christina A. Walsh,
TSA Paperwork Reduction Act Officer, Information Technology.

[FR Doc. 2018-26932 Filed 12-12-18; 8:45 am]

BILLING CODE 9110-05-P